DEPARTMENT OF ENERGY

Bonneville Power Administration

Kangley-Echo Lake Transmission Line Project

AGENCY: Bonneville Power Administration (BPA), Department of Energy (DOE).

ACTION: Notice of scoping meeting and extension of comment period.

SUMMARY: This notice announces BPA's scoping meeting for its Kangley-Echo Lake Transmission Line Project Environmental Impact Statement (EIS) being prepared in accordance with the National Environmental Policy Act (NEPA). This notice also extends the close of comment for scoping from the previously published April 27, 2000, to October 2, 2000. BPA has established this scoping period during which all interested and affected persons and agencies are invited to comment on the scope of the proposed EIS. Scoping will help BPA ensure that a full range of issues related to the development and implementation of this project is addressed in the EIS, and also will identify significant or potentially significant impacts that may result from the project. The Draft EIS is scheduled to be available for review and comment next year.

DATES: Comments may be made at an EIS scoping meeting to be held on Wednesday, September 20, 2000, from 4:00 p.m. to 8:00 p.m. at the address below. At the informal meeting, several members of the project team will be available to answer questions and accept oral and written comments. Written comments may also be sent to the address below no later than Monday, October 2, 2000.

ADDRESSES: The public meeting will be held at the Maple Valley Community Center, 22010 SE 248th Street, Maple Valley, Washington. Send comment letters and requests to be placed on the project mailing list to Communications, Bonneville Power Administration—KC-7, P.O. Box 12999, Portland, Oregon, 97212. The phone number of the Communications office is 503-230-3478 in Portland; toll-free 1-800-622-4519 outside of Portland. Comments may also be sent to the BPA Internet address: comment@bpa.gov.

FOR FURTHER INFORMATION CONTACT: Lou Driessen, Project Manager, Bonneville Power Administration—TNP-3, P.O. Box 3621, Portland, Oregon, 97208-3621; phone number: 503-230-5525; or e-mail: lcdriessen@bpa.gov. You may also contact Gene Lynard, Environmental Project Manager, Bonneville Power Administration—KECN-4, P.O. Box 3621, Portland, Oregon, 97208-3621; phone number: 503-230-3790; fax number: 503-230-5699; or e-mail: gplynard@bpa.gov.

SUPPLEMENTARY INFORMATION: BPA is preparing an EIS on the proposed construction of a transmission line in central King County, Washington. The new 500-kilovolt (kV) line would connect an existing transmission line (near the community of Kangley) with our existing Echo Lake Substation, a distance of about nine miles. The major reason for this proposal is to improve system reliability in the King County area. Under normal growth in demand, system instability could develop as early as the winter of 2002-03 with an outage of the existing Raver to Echo Lake 500-kV line. Another reason is to enhance the United States' delivery of power to Canada as required under the Columbia River Treaty of 1961. Several routes are being considered. Four are east of our existing 500-kV line that runs between the Raver and Echo Lake Substations, all of which cross the Cedar River Municipal Watershed. Three possible routes lie west of the watershed. Under all seven options, easements would need to be acquired for new rights-of-way and access roads. Once the environmental review is complete, BPA will decide whether and how to proceed with the project. If BPA decides to proceed, construction would likely begin in 2002.

Maps and further information are available from BPA at the address above.

Issued in Portland, Oregon, on August 23, 2000.
Thomas C. McKinney,
NEPA Compliance Officer.

[FR Doc. 00-22302 Filed 8-30-00; 8:45 am]

BILLING CODE 6450-01-P